ENVIRONMENTAL PROTECTION AGENCY

[EPA-HQ-OPP-2017-0007; FRL-9976-88]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before June 18, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

New Active Ingredients

1. File Symbol: 69553-O. Docket ID number: EPA-HQ-OPP-2014-0559. Applicant: Andermatt Biocontrol AG, Stahlermatten 6, CH-6146 Grossdietwil, Switzerland (c/o SciReg, Inc., 12733 Director's Loop, Woodbridge, VA 22192). Product name: AmyProtec 42. Active ingredient: Fungicide—Bacillus amyloliquefaciens subspecies plantarum strain FZB42 at 50%. Proposed use: To prevent major soilborne diseases and enhance root development of vegetables, fruits, herbs, ornamental plants and turf in agricultural and residential settings. Contact: BPPD.

2. File Symbol: 73771-RE. Docket ID number: EPA-HQ-OPP-2018-0145. Applicant: Verdesian Life Sciences U.S., LLC, 1001 Winstead Dr., Suite 480, Cary, NC 27513. Product name: (2S)-5-Oxopyrrolidine-2-carboxylic Acid Technical. Active ingredient: Plant regulator—(2S)-5-Oxopyrrolidine-2-carboxylic Acid (L-PCA) at 98.5%. Proposed use: For formulation into plant regulator products for use on turf, on ornamentals, on food crops and as a seed treatment. Contact: BPPD.

3. File Symbol: 73771-RG. Docket ID number: EPA-HQ-OPP-2018-0145. Applicant: Verdesian Life Sciences U.S., LLC, 1001 Winstead Dr., Suite 480, Cary, NC 27513. Product name: VLS-2002-03. Active ingredient: Plant regulator—(2S)-5-Oxopyrrolidine-2-carboxylic Acid (L-PCA) at 25%. Proposed use: For use as a foliar spray on turf, ornamentals and food crops. Contact: BPPD.

4. File Symbol: 73771-RU. Docket ID number: EPA-HQ-OPP-2018-0145. Applicant: Verdesian Life Sciences U.S., LLC, 1001 Winstead Dr., Suite 480, Cary, NC 27513. Product name: VLS-2002-03-0.10. Active ingredient: Plant regulator—(2S)-5-Oxopyrrolidine-2-carboxylic Acid (L-PCA) at 10%. Proposed use: For use as a seed treatment (food and non-food) using commercial seed treatment equipment; not for use in agricultural establishments covered by the Worker Protection Standard (40 CFR part 170). Contact: BPPD.

5. File Symbol: 7969-UNA. Docket ID number: EPA-HQ-OPP-2018-0002. Applicant: BASF Corporation, 26 Davis Dr., P.O. Box 13528, Research Triangle Park, NC 27709-3528. Active ingredients: Mefentrifluconazole, Pyraclostrobin, and Fluxapyroxad. Product type: Fungicide. Proposed uses: beans and peas, citrus, corn, peanut, potato, rapeseed (canola), small grains, sorghum and millet, soybean, and sugar beet. Contact: RD.

6. File Symbol: 7969-UNE. Docket ID number: EPA-HQ-OPP-2018-0002. Applicant: BASF Corporation, 26 Davis Dr., P.O. Box 13528, Research Triangle Park, NC 27709-3528. Active ingredient: Mefentrifluconazole. Product type: Fungicide. Proposed uses: Cereals, citrus, grape, legumes, peanuts, pome fruits, potato, rapeseed (canola), stone fruits, sugar beet, and tree nuts; seed treatment use on buckwheat, corn, millet, oats, rye, sorghum, soybean, triticale, and wheat seeds; turfgrass use sites including golf courses, institutional, commercial, and municipal lawns, parks, recreational areas (including sports and athletic fields, cemeteries, and sod farms); ornamental use sites (including containers, greenhouses, lathhouses, and shadehouses, outdoor nurseries, including container, bench, flat, plug, bed-grown or field-grown ornamentals), forest and conifer nurseries, and plantations, retail nurseries, and ornamentals found in interiorscapes, golf courses, recreational landscapes, and residential and commercial landscapes. Contact: RD.

7. File Symbol: 7969-UNG. Docket ID number: EPA-HQ-OPP-2018-0002. Applicant: BASF Corporation, 26 Davis Dr., P.O. Box 13528, Research Triangle Park, NC 27709-3528. Active ingredient: Mefentrifluconazole and Pyraclostrobin. Product type: Fungicide. Proposed uses: non-residential turf grass. Contact: RD.

8. File Symbol: 7969-UNI. Docket ID number: EPA-HQ-OPP-2018-0002. Applicant: BASF Corporation, 26 Davis Dr., P.O. Box 13528, Research Triangle Park, NC 27709-3528. Active ingredient: Mefentrifluconazole. Product type: Fungicide. Proposed uses: Beans and peas, citrus, corn, peanut, potato, rapeseed (canola), small grains, sorghum and millet, soybean, and sugar beet. Contact: RD.

9. File Symbol: 7969-UNL. Docket ID number: EPA-HQ-OPP-2018-0002. Applicant: BASF Corporation, 26 Davis Dr., P.O. Box 13528, Research Triangle Park, NC 27709-3528. Active ingredient: Mefentrifluconazole. Product type: Fungicide. Proposed uses: Seed treatment on crops: Barley, buckwheat, corn, millet, oats, rye, sorghum, soybean, triticale, and wheat. Contact: RD.

10. File Symbol: 7969-UNO. Docket ID number: EPA-HQ-OPP-2018-0002. Applicant: BASF Corporation, 26 Davis Dr., P.O. Box 13528, Research Triangle Park, NC 27709-3528. Active ingredient: Mefentrifluconazole and Pyraclostrobin. Product type: Fungicide. Proposed uses: Beans and peas, citrus, corn, peanut, potato, rapeseed (canola), small grains, sorghum and millet, soybean, and sugar beet. Contact: RD.

11. File Symbol: 7969-UNT. Docket ID number: EPA-HQ-OPP-2018-0002. Applicant: BASF Corporation, 26 Davis Dr., P.O. Box 13528, Research Triangle Park, NC 27709-3528. Active ingredient: Mefentrifluconazole. Product type: Fungicide. Proposed uses: Grape, pome, stone fruits, and tree nuts. Contact: RD.

12. File Symbol: 7969-UNU. Docket ID number: EPA-HQ-OPP-2018-0002. Applicant: BASF Corporation, 26 Davis Dr., P.O. Box 13528, Research Triangle Park, NC 27709-3528. Active ingredient: Mefentrifluconazole. Product type: Fungicide. Proposed uses: Non-residential turf and ornamentals. Contact: RD.

13. File Symbol: 7969-URN. Docket ID number: EPA-HQ-OPP-2018-0002. Applicant: BASF Corporation, 26 Davis Dr., P.O. Box 13528, Research Triangle Park, NC 27709-3528. Active ingredient: Mefentrifluconazole and Fluxapyroxad. Product type: Fungicide. Proposed uses: Pome fruits, stone fruits, and tree nuts. Contact: RD.

14. File Symbol: 7969-URR. Docket ID number: EPA-HQ-OPP-2018-0002. Applicant: BASF Corporation, 26 Davis Dr., P.O. Box 13528, Research Triangle Park, NC 27709-3528. Active ingredient: Mefentrifluconazole. Product type: Fungicide. Proposed uses: Beans and peas, citrus, corn, peanut, potato, rapeseed (canola), small grains, sorghum and millet, soybean, and sugar beet. Contact: RD.

15. File Symbol: 89633-A. Docket ID number: EPA-HQ-OPP-2018-0193. Applicant: Moghu Research Center, Ltd. BVC #311, KRIBB, Yuscong, Daejeon, 305-333, Korea (c/o toXcel, 7140 Heritage Village Plaza, Gainesville, VA 20155). Product name: Methiozolin Technical. Active ingredient: Herbicide—methiozolin at 97%. Proposed use: Formulation into products to be used on golf course turf. Contact: RD.

16. File Symbol: 89633-L. Docket ID number: EPA-HQ-OPP-2018-0193. Applicant: Moghu Research Center, Ltd. BVC #311, KRIBB, Yuscong, Daejeon, 305-333, Korea (c/o toXcel, 7140 Heritage Village Plaza, Gainesville, VA 20155). Product name: Poacure SC. Active ingredient: Herbicide—methiozolin at 25%. Proposed use: Golf course turf. Contact: RD.

17. File Symbol: 89633-U. Docket ID number: EPA-HQ-OPP-2018-0193. Applicant: Moghu Research Center, Ltd. BVC #311, KRIBB, Yuscong, Daejeon, 305-333, Korea (c/o toXcel, 7140 Heritage Village Plaza, Gainesville, VA 20155). Product name: Poacure. Active ingredient: Herbicide—methiozolin at 25%. Proposed use: Golf course turf. Contact: RD.

18. File Symbol: 91482-E. Docket ID number: EPA-HQ-OPP-2018-0106. Applicant: Rat-O-Repel CC, No. 11 Sixth Ave., Summerstrand, Port Elizabeth 6001, South Africa (c/o Walter G. Talarek PC, 5153 Allison Marshall Dr., Warrenton, VA 20187-8980). Product name: Rat-O-Repel Pouches. Active ingredients: Repellent—Eucalyptus Oil at 3.00%, Rosemary Oil at 1.00%, Spike Lavender Oil at 1.00%, Oregano Oil at 1.00%, Tagetes Oil at 0.75%, Thyme Oil at 0.50%, Clove Oil at 0.50% and Peppermint Oil at 0.50%. Proposed use: Rodent repellent. Contact: BPPD.

19. File Symbol: 91482-G. Docket ID number: EPA-HQ-OPP-2018-0106. Applicant: Rat-O-Repel CC, No. 11 Sixth Ave., Summerstrand, Port Elizabeth 6001, South Africa (c/o Walter G. Talarek PC, 5153 Allison Marshall Dr., Warrenton, VA 20187-8980). Product name: Rat-O-Repel Garbage Bags. Active ingredients: Repellent—Eucalyptus Oil at 1.500%, Rosemary Oil at 0.500%, Spike Lavender Oil at 0.500%, Oregano Oil at 0.500%, Tagetes Oil at 0.375%, Thyme Oil at 0.250%, Clove Oil at 0.250% and Peppermint Oil at 0.250%. Proposed use: Rodent repellent. Contact: BPPD.

20. File Symbol: 91482-R. Docket ID number: EPA-HQ-OPP-2018-0106. Applicant: Rat-O-Repel CC, No. 11 Sixth Ave., Summerstrand, Port Elizabeth 6001, South Africa (c/o Walter G. Talarek PC, 5153 Allison Marshall Dr., Warrenton, VA 20187-8980). Product name: Rat-O-Repel Shock Spray. Active ingredients: Repellent—Eucalyptus Oil at 3.00%, Rosemary Oil at 1.00%, Spike Lavender Oil at 1.00%, Oregano Oil at 1.00%, Tagetes Oil at 0.75%, Thyme Oil at 0.50%, Clove Oil at 0.50% and Peppermint Oil at 0.50%. Proposed use: Rodent repellent. Contact: BPPD.

21. File Symbol: 92083-R. Docket ID number: EPA-HQ-OPP-2018-0045. Applicant: Bi-PA nv, Technologielaan 7, B-1840 Londerzeel, Belgium (c/o SciReg, Inc., 12733 Director's Loop, Woodbridge, VA 22192). Product name: Vintec. Active ingredient: Fungicide—Trichoderma atroviride strain SC1 at 15%. Proposed use: For control or suppression of botrytis/bunch rot/gray mold on grapevine, tomato and strawberry. Contact: BPPD.

Authority: 7 U.S.C. 136 et seq.

Dated: May 1, 2018.
Delores Barber,
Director, Information Technology and Resources Management Division, Office of Pesticide Programs.

[FR Doc. 2018-10578 Filed 5-16-18; 8:45 am]

BILLING CODE 6560-50-P